SMALL BUSINESS ADMINISTRATION

RIN 3245-AG64

Small Business Innovation Research Program and Small Business Technology Transfer Program Policy Directive

AGENCY: Small Business Administration.

ACTION: Notice; extension of comment period.

SUMMARY: On April 7, 2016, the U.S. Small Business Administration (SBA) published a notice in the Federal Register to solicit public comments on a proposed SBIR/STTR Policy Directive, which among other things seeks to clarify the data rights and Phase III preference afforded to SBIR and STTR small business awardees, add definitions relating to data rights, and clarify the benchmarks for progress towards commercialization. This notice announces the extension of the current comment period for an additional 30 days until July 6, 2016.

DATES: The comment period for the proposed SBIR/STTR Policy Directive is hereby extended from June 6, 2016 until July 6, 2016. You must submit your comments on or before July 6, 2016.

ADDRESSES: You may submit comments, identified by RIN: 3245-AG64, by any of the following methods:

• Federal eRulemaking Portal: http://www.regulations.gov. Follow the instructions for submitting comments.

• Mail, Hand Delivery/Courier: Edsel Brown, Assistant Director, Office of Innovation, U.S. Small Business Administration, 409 Third Street SW., Washington, DC 20416.

SBA will post all comments to this proposed rule on www.regulations.gov. If you wish to submit confidential business information (CBI) as defined in the User Notice at www.regulations.gov, you must submit such information to Edsel Brown, or send an email to technology@sba.gov. Highlight the information that you consider to be CBI and explain why you believe SBA should hold this information as confidential. SBA will review your information and determine whether it will make the information public.

FOR FURTHER INFORMATION CONTACT: Edsel Brown, Assistant Director, Office of Innovation, at (202) 401-6365 or technnology@sba.gov.

SUPPLEMENTARY INFORMATION: On April 7, 2016, SBA published a notice and request for comments on the referenced proposed SBIR/STTR Policy Directive at 81 FR 20483. SBA received a formal request to extend the comment period by 60 days. After considering the request, SBA decided to extend the comment period an additional 30 days, until July 6. 2016. SBA believes this additional time, coupled with the initial 60-day comment period, will give commenters ample time to consider the proposed changes and submit comments.

John R. Williams,
Director of Innovation, Office of Investment and Innovation.

[FR Doc. 2016-12566 Filed 5-27-16; 8:45 am]

BILLING CODE 8025-01-P